DEPARTMENT OF THE INTERIOR

Bureau of Ocean Energy Management

Environmental Impact Statement on the Liberty Development and Production Plan in the Beaufort Sea Planning Area

AGENCY: Bureau of Ocean Energy Management (BOEM), Department of the Interior.

ACTION: Notice of Availability of a Record of Decision.

SUMMARY: BOEM is announcing the availability of the Record of Decision for the Final Environmental Impact Statement (FEIS) for the Liberty Development and Production Plan (DPP) in the Beaufort Sea Planning Area. The Record of Decision identifies the Bureau's selected alternative for the Liberty DPP. The Record of Decision and associated information are available on BOEM's website at https://www.boem.gov/liberty.

FOR FURTHER INFORMATION CONTACT: Lauren Boldrick, Project Manager, Bureau of Ocean Energy Management, Alaska OCS Region, 3801 Centerpoint Drive, Suite 500, Anchorage, Alaska 99503, 907-334-5200.

SUPPLEMENTARY INFORMATION: The proposed action would recover and process oil from the Liberty oil field and transport sales-quality oil to market. To accomplish this, Hilcorp Alaska, LLC would construct the Liberty Drilling and Production Island (LDPI) to recover reserves from three Federal leases (OCS-Y-1585, OCS-Y-1650, and OCS-Y-1886) in Foggy Island Bay of the Beaufort Sea. The ocean bottom footprint of the proposed LDPI is approximately 24 acres. Hilcorp would construct a new pipeline linking the LDPI to the Badami Sales Oil Pipeline (Badami pipeline). They would bury the subsea portion (approximately 5.6 miles) of the pipeline along a route running south from the LDPI to the Alaska coastline west of the Kadleroshilik River. The pipeline would transition to above-ground for approximately 1.5 miles and tie into the existing Badami pipeline. Hilcorp would produce and process oil from the LDPI, transport it through the Badami pipeline to the existing common carrier pipeline system, and from there on to the Trans-Alaska Pipeline System.

After careful consideration, the Department of the Interior (DOI) has selected the Proposed Action (Alternative 1) with additional mitigation measures analyzed in the Liberty DPP FEIS. DOI's selection of the Proposed Action meets the purpose and need as identified in the Liberty DPP FEIS, and reflects an informed decision balancing orderly resource development with protection of the human, marine, and coastal environments. The full text of the mitigation measures which will be included in the project approval are available in the Record of Decision, which is available on BOEM's website at: www.boem.gov/liberty.

Authority: This Notice of Availability is published pursuant to regulations (40 CFR part 1506) implementing the provisions of the National Environmental Policy Act (NEPA) of 1969, as amended (42 U.S.C. 4321 et seq.).

Dated: October 19, 2018.
Walter D. Cruickshank,
Acting Director, Bureau of Ocean Energy Management.

[FR Doc. 2018-23366 Filed 10-25-18; 8:45 am]

BILLING CODE 4310-MR-P